DEPARTMENT OF AGRICULTURE

Submission for OMB Review; Comment Request

November 15, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by December 26, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Reporting Requirements Under Regulations Governing Inspection and Grading Services of Manufactured or Processed Dairy Products and the Certification of Sanitary Design & Fabrication of Equipment used in the Slaughter, Processing, and Packaging of Livestock and Poultry Products.

OMB Control Number: 0581-0126.

Summary of Collection: The Agricultural Marketing Act (AMA) of 1946 (7 U.S.C. 1621-1627), directs the Department to develop programs which will provide for and facilitate the marketing of agricultural products. The regulations governing the voluntary inspection and grading program for dairy products is contained in 7 CFR part 58. The certification regulations for livestock and poultry products are contained in 7 CFR part 54. The Government, industry and consumer will be well served if the Government can help insure that dairy products are produced under sanitary conditions and that buyers have the choice of purchasing the quality of the product they desire. The dairy grading program is a voluntary user fee program. For a voluntary inspection program to perform satisfactorily with a minimum of confusion, information must be collected to determine what services are requested.

Need and Use of the Information: The information collected is used to identify the product offered for grading; to identify and contact the individuals responsible for payment of the grading or equipment evaluation fee and expense; and to identify the person responsible for administering the grade label program. The Agriculture Marketing service will use several forms to collect essential information to carry out and administer the inspection and grading program.

Description of Respondents: Business or other for profit.

Number of Respondents: 240.

Frequency of Responses: Reporting: On occasion; Other (when forms are requested).

Total Burden Hours: 1,027.

Ruth Brown,
Departmental Information Collection Clearance Officer.

[FR Doc. 2018-25295 Filed 11-19-18; 8:45 am]

BILLING CODE 3410-02-P